DEPARTMENT OF JUSTICE

Immigration and Naturalization Service

Agency Information Collection Activities: Proposed Collection; Comment Request

ACTION: Notice of Information Collection under Review: Application for Naturalization.

The Department of Justice, Immigration and Naturalization Service (INS) has submitted the following information collection request to the Office of Management and Budget (OMB) for review and clearance in accordance with the Paperwork Reduction Act of 1995.

The INS published a Federal Register notice on October 16, 1998 at 63 FR 55643 to solicit public comments for a 60-day period regarding an initial draft revision of Form N-400 (Application for Neutralization). In order to encourage more comments, the INS published a second Federal Register notice on January 8, 1999 at 64 FR 1219, exhibiting a draft of the revised form and soliciting additional public comments for a period of 60 days. Under these two notices, written comments were received from 20 organizations and individuals. Some of the commenting organizations represented several other groups that joined in the opinions submitted. Additional comments were received internally from INS personnel. The revised draft N-400 was exhibited in the Federal Register on June 28, 2000 at 65 FR 39926, with an invitation for further comments during another period of 60 days. During that period, additional comments were received from 8 organizations and individuals. The written public comments, as well as those received from the focus groups and from INS personnel have been addressed in the accompanying Supporting Statement.

The purpose of this notice is to allow an additional 30 days for public comments. Comments are encouraged and will be accepted until November 27, 2000. This process is conducted in accordance with 5 CFR 1320.10.

Written comments and/or suggestions regarding the items contained in this notice, especially regarding the estimated public burden and associated response time, should be directed to the Office of Management and Budget, Office of Information and Regulatory Affairs, Attention: Lauren Wittenberg, Department of Justice Desk Officer, 725—17th Street, NW., Room 10235, Washington, DC 20530; 202-395-4318.

Written comments and suggestions from the public and affected agencies concerning the proposed collection of information should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: Revision of currently approved collection.

(2) Title of the Form/Collection: Application for Naturalization.

(3) Agency form number, if any, and the applicable component of the Department of Justice sponsoring the collection: Form N-400, Adjudications Division, Immigration and Naturalization Service.

(4) Affected public who will be asked or required to respond, as well as a brief abstract: Primary: Individuals and Households. The information collected is used by the INS to determine eligibility for naturalization.

(5) An estimate of the total number of respondents and the amount of time estimated for an average respondent to respond: 700,000 responses at 6 hours per response.

(6) An estimate of the total public burden (in hours) associated with the collection: 4,200,000 annual burden hours.

If you have additional comments, suggestions, or need a copy of the proposed information collection instrument with instructions, or additional information, please contact Richard A. Sloan, 202-514-3291, Director, Policy Directives and Instructions Branch, Immigration and Naturalization Service, U.S. Department of Justice, Room 4034, 425 I Street, NW., Washington, DC 20536. Additionally, comments and/or suggestions regarding the item(s) contained in this notice, especially regarding the estimated public burden and associated response time may also be directed to Mr. Richard A. Sloan.

If additional information is required contact: Mr. Robert B. Briggs, Clearance Officer, Department of Justice, Information Management and Security Staff, Justice Management Division, National Place Building, 1331 Pennsylvania Avenue, NW., Suite 1220, Washington, DC 20530.

Dated: October 20, 2000.
Richard A. Sloan,
Department Clearance Officer, United States Department of Justice, Immigration and Naturalization Service.

BILLING CODE 4410-10-M

[FR Doc. 00-27588 Filed 10-25-00; 8:45 am]

BILLING CODE 4410-10-C